DEPARTMENT OF LABOR

Employment and Training Administration

[NAFTA-5291]

Kraft Foods North America, Inc., Lehigh Valley, PA; Dismissal of Application for Reconsideration

Pursuant to 29 CFR 90.18(C) an application for administrative reconsideration was filed with the Director of the Division of Trade Adjustment Assistance for workers at Kraft Foods North America, Inc., Lehigh Valley, Pennsylvania. The application contained no new substantial information which would bear importantly on the Department's determination. Therefore, dismissal of the application was issued.

NAFTA-5291; Kraft Foods North America, Inc., Lehigh Valley, Pennsylvania (April 25, 2002)

Signed at Washington, DC this 29th day of April, 2002.
Edward A. Tomchick,
Director, Division of Trade Adjustment Assistance.

[FR Doc. 02-12380 Filed 5-16-02; 8:45 am]

BILLING CODE 4510-30-M